NATIONAL SCIENCE FOUNDATION

Notice of Permits Issued Under the Antarctic Conservation Act of 1978

AGENCY: National Science Foundation.

ACTION: Notice of permits issued under the Antarctic Conservation of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: The National Science Foundation published notices in the Federal Register of permit applications received. Permits were issued on October 4, 2002 to:

Notice Published

Randall Davis, June 3, 2002, Permit No. 2003-001; Scott Kelley, September 6, 2002, Permit No. 2003-008; Donal Manahan, September 6, 2002, Permit No. 2003-009; Brenda Hall, September 6, 2002, Permit No. 2003-010; Michael Castellini, September 6, 2002, Permit No. 2003-011; and Robert A. Garrott, September 6, 2002, Permit No. 2003-012.

Nadene G. Kennedy,
Permit Officer.

[FR Doc. 02-26189 Filed 10-11-02; 8:45 am]

BILLING CODE 7555-01-M